DEPARTMENT OF COMMERCE

National Oceanic and Atmospheric Administration

RIN 0648-XF530

Marine Mammals; File No. 21006

AGENCY: National Marine Fisheries Service (NMFS), National Oceanic and Atmospheric Administration (NOAA), Commerce.

ACTION: Notice; receipt of application for permit amendment.

SUMMARY: Notice is hereby given that Linnea Pearson, California Polytechnic State University, 1 Grand Ave., San Luis Obispo, CA 93407, has applied for an amendment to Scientific Research Permit No. 21006.

DATES: Written, telefaxed, or email comments must be received on or before July 31, 2019.

ADDRESSES: The application and related documents are available for review by selecting “Records Open for Public Comment” from the “Features” box on the Applications and Permits for Protected Species home page, https://apps.nmfs.noaa.gov, and then selecting File No. 21006 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Sloan, (301) 427-8401.

SUPPLEMENTARY INFORMATION: The subject amendment to Permit No. 21006 is requested under the authority of the Marine Mammal Protection Act of 1972, as amended (16 U.S.C. 1361 et seq.) and the regulations governing the taking and importing of marine mammals (50 CFR part 216).

Permit No. 21006, issued on September 15, 2017 (82 FR 48985; October 23, 2017), authorizes the permit holder to conduct research on Weddell seals in the Antarctic. The permit holder is requesting the permit be amended to include authorization for: Increased take of pups to twelve total, sedation of all pups at all time points, collection of blood samples for all pups at all time points, use of a cannulated needle for biopsy instead of a biopsy punch, attachment of flipper mounted VHF to pups at three weeks of age, attachment of accelerometer tags at one week of age, use of antibiotics to treat local or systemic infection, and collection of rectal swabs, vaginal swabs, prepucial swabs, nasal swabs, lingual swabs, buccal swabs, and superficial lingual epithelial scrapes from all pups at all time points.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Julia Marie Harrison,
Chief, Permits and Conservation Division, Office of Protected Resources, National Marine Fisheries Service.

[FR Doc. 2019-13919 Filed 6-28-19; 8:45 am]

BILLING CODE 3510-22-P